DEPARTMENT OF THE INTERIOR

Bureau of Land Management

[212.LLAK941000 L14100000.ET0000; F-86061, F-16298, F-16299, F-16301, AA-61299, F-16304, F-85667, AA-61005, F-86064, F-85702, AA-66614]

Extension of the Opening Order in Public Land Order No. 7899, Alaska

AGENCY: Bureau of Land Management, Interior.

ACTION: Amended opening order.

SUMMARY: For orderly management of the public lands subject to Public Land Order (PLO) 7899, published on Jan. 19, 2021, the lands described therein shall not be opened until a date 60 days after the publication of this Amended Opening Order.

DATES: This Order takes effect on February 18, 2021.

FOR FURTHER INFORMATION CONTACT: David V. Mushovic, Bureau of Land Management (BLM) Alaska State Office, 222 West Seventh Avenue, Mailstop #13, Anchorage, AK 99513-7504; telephone: 907-271-4682; or email: dmushovi@blm.gov. People who use a telecommunications device for the deaf (TDD) may call the Federal Relay Service (FRS) at 1-800-877-8339 to contact Mr. Mushovic during normal business hours. The FRS is available 24 hours a day, 7 days a week, to leave a message or question. You will receive a reply during normal business hours.

SUPPLEMENTARY INFORMATION: For the orderly administration of the public lands and in accordance with 43 CFR 2091.6, this Order amends the opening order contained in Paragraph 3 of PLO 7899 (86 FR 5236) as follows:

At 8 a.m. Alaska Time on April 19, 2021, the lands described in paragraph 1 of PLO 7899, (86 FR 5236) shall be open to all forms of appropriation under the general public land laws, including location and entry under the mining laws, leasing under the Mineral Leasing Act of February 25, 1920, as amended, subject to valid existing rights, the provisions of existing withdrawals, other segregations of record, and the requirements of applicable law. All valid applications received at or prior to 8 a.m. Alaska Time on April 19, 2021, shall be considered as simultaneously filed at that time. Those received thereafter shall be considered in the order of filing. Appropriation of any of the lands referenced in Paragraph 1 of PLO 7899, (86 FR 5236) under the general mining laws prior to the date and time of revocation remain unauthorized. Any such attempted appropriation, including attempted adverse possession under 30 U.S.C. 38, shall vest no rights against the United States. State law governs acts required to establish a location and to initiate a right of possession where not in conflict with Federal law. The BLM will not intervene in disputes between rival locators over possessory rights since Congress has provided for such determinations in local courts.

Laura Daniel-Davis,
Senior Advisor to the Secretary, Exercising the Delegated Authority of the Assistant Secretary, Land and Minerals Management.

[FR Doc. 2021-03384 Filed 2-17-21; 8:45 am]

BILLING CODE 4310-JA-P